NUCLEAR REGULATORY COMMISSION

[Docket No. 72-1; NRC-2015-0113]

GE-Hitachi Nuclear Energy Americas, LLC; GE-Hitachi Morris Operation Independent Spent Fuel Storage Installation

AGENCY: Nuclear Regulatory Commission.

ACTION: License amendment application; issuance.

SUMMARY: The U.S. Nuclear Regulatory Commission (NRC) reviewed an application by GE-Hitachi Nuclear Energy Americas, LLC, for an amendment of Special Nuclear Materials License No. SNM-2500, which authorizes GE-Hitachi Nuclear Energy Americas, LLC, to possess, store, and transfer spent nuclear fuel and associated radioactive materials at the GE-Hitachi Morris Operation's (GEMO) independent spent fuel storage installation (ISFSI). The requested amendment would change section 8.2.1 of the GEMO's technical specification to ensure that annual environmental reports are submitted in accordance with regulatory requirements. The application included adequate justification for the proposed changes. The NRC has docket, approved and issued the amendment.

DATES: May 1, 2015.

ADDRESSES: Please refer to Docket ID NRC-2015-0113 when contacting the NRC about the availability of information regarding this document. You may access publicly-available information related to this document using any of the following methods:

• Federal Rulemaking Web site: Go to http://www.regulations.gov and search for Docket ID NRC-2015-0113. Address questions about NRC dockets to Carol Gallagher; telephone: 301-415-3463; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The GE-Hitachi Morris Operation License Amendment Request No. 14 package is available electronically under ADAMS Accession No. ML15106A008.

• NRC's PDR: You may examine and purchase copies of public documents at the NRC's PDR, Room O1-F21, One White Flint North, 11555 Rockville Pike, Rockville, Maryland 20852.

FOR FURTHER INFORMATION CONTACT: Pamela Longmire, Office of Nuclear Material Safety and Safeguards, U.S. Nuclear Regulatory Commission, Washington, DC 20555-0001; telephone: 301-415-7000; email: Pamela.Longmire@nrc.gov.

SUPPLEMENTARY INFORMATION: On December 21, 2004, the NRC renewed Special Nuclear Materials License No. SNM-2500 for the GEMO ISFSI (ADAMS Accession No. ML043630433), located near Morris, Illinois. The renewed license authorizes GE-Hitachi Nuclear Energy Americas, LLC to possess, store, and transfer spent nuclear fuel and associated radioactive materials at the GEMO-ISFSI for a term of 20 years. The NRC also issued an environmental assessment and finding of no significant impact related to the issuance of the renewed ISFSI license on November 30, 2004 (ADAMS Accession No. ML043360409), in accordance with the National Environmental Policy Act, and in conformance with the applicable requirements of Title 10 of the Code of Federal Regulations (10 CFR part 51).

On June 25, 2013, GE-Hitachi Nuclear Energy Americas, LLC submitted to the NRC a request for a license amendment in accordance with § 72.56, “Application for amendment of license.” The requested amendment would change section 8.2.1 of the GEMO technical specification to ensure that annual environmental reports are submitted in accordance with regulatory requirements. The application included adequate justification for the proposed changes.

Pursuant to 10 CFR 72.46, the NRC has docketed, approved and issued Amendment No. 14 to Special Nuclear Materials License No. SNM-2500, held by GE-Hitachi Nuclear Energy Americas, LLC, for the possession, transfer and storage of spent fuel at the GEMO ISFSI. Amendment No. 14 is effective as of the date of issuance.

Amendment No. 14 complies with the standards and requirements of the Atomic Energy Act of 1954, as amended, and the Commission's rules and regulations. The Commission has made appropriate findings, as required by the Act and the Commission's rules and regulations in 10 CFR Chapter 1, which are set forth in Amendment No. 14. The issuance of Amendment No. 14 satisfied the criteria specified in 10 CFR 51.22(c)(11) for a categorical exclusion. Therefore, the preparation of an environmental assessment or an environmental impact statement is not required.

In accordance with 10 CFR 72.46(b)(2), the NRC has determined that Amendment No. 14 does not present a genuine issue as to whether public health and safety will be significantly affected. Therefore, the publication of a notice of proposed action and an opportunity for hearing or a notice of hearing is not warranted. Notice is hereby given of the right of interested persons to request a hearing on whether the action should be rescinded or modified.

Dated at Rockville, Maryland, this 16th day of April 2015.
For the Nuclear Regulatory Commission.
Michele Sampson,
Chief, Spent Fuel Licensing Branch, Division of Spent Fuel Management, Office of Nuclear Material Safety and Safeguards.

[FR Doc. 2015-10245 Filed 4-30-15; 8:45 am]

BILLING CODE 7590-01-P